SMALL BUSINESS ADMINISTRATION

Elk Associates Funding Corp., (License No. 02/02-5377); Notice Seeking Exemption Under 312 of the Small Business Investment Act, Conflicts of Interest

Notice is hereby given that Elk Associates Funding Corp., 747 Third Avenue, New York, New York, 10017, a Federal Licensee under the Small Business Investment Act of 1958, as amended (“the Act”), in connection with the financing of a small concern, has sought an exemption under section 312 of the Act and section 107.730, Financings Which Constitute Conflicts of Interest, of the Small Business Administration (“SBA”) rules and regulations (13 CFR 107.730 (2003)). Elk Associates Funding Corp. proposes to provide loans to Across the Town Cab Corp., 811 West Evergreen, Chicago, IL 60622. The financings are contemplated for the purchase of taxi medallions and taxi vehicles.

The financings are brought within the purview of Sec. 107.730(a)(1) of the Regulations because Mr. Charles Goodbar III, Esq., an Associate of Elk Associates Funding Corp., currently owns greater than 10 percent of Across the Town Cab Corp. and therefore, Across the Town Cab Corp. is considered an Associate of Elk Associates Funding Corp. as defined in Sec. 105.50 of the regulations.

Notice is hereby given that any interested person may submit written comments on the transaction, within 15 days, to the Associate Administrator for Investment, U.S. Small Business Administration, 409 Third Street, SW., Washington, DC 20416.

Dated: February 17, 2004.
Jeffrey D. Pierson,
Associate Administrator for Investment.

[FR Doc. 04-4409 Filed 2-27-04; 8:45 am]

BILLING CODE 8025-01-P